DEPARTMENT OF HEALTH AND HUMAN SERVICES

Centers for Disease Control and Prevention

Emergency Funding for Puerto Rico Department of Health, Zika Virus Outbreak

AGENCY: Centers for Disease Control and Prevention (CDC), Department of Health and Human Services (DHHS).

ACTION: This notice announces the Centers for Disease Control and Prevention's (CDC) intent to fund the Puerto Rico Department of Health with Prevention and Public Health Funds (PPHF).

PPHF 2016: Epidemiology and Laboratory Capacity Program—Emergency Funding for Puerto Rico Department of Health, Zika virus Outbreak for Infectious Diseases (ELC)—financed solely by Prevention and Public Health Funds.

FOA Number: CDC-RFA-CK14-140103CONTPPHF2016.

SUMMARY: The U.S. Centers for Disease Control and Prevention (CDC) is providing $3,700,000 in urgent funding through the Epidemiology and Laboratory Capacity for Infectious Diseases (ELC) Cooperative Agreement to the Puerto Rico Department of Health (PRDOH) to combat the current outbreak of Zika virus.

Project Description

Puerto Rico is experiencing an approximate doubling of confirmed Zika virus cases per week—they are unique in the total number of cases, the level of local transmission, and the presence of the Zika-carrying vector. Currently, the PR DOH cannot sufficiently address necessary aspects of the outbreak response without additional support. In addition to equipment and supplies necessary for the increased testing for Zika virus, funds awarded to PRDOH will be used to support additional epidemiology and laboratory staff critical to the response efforts.

Prevention Fund Reporting Requirements: This award requires the grantee to complete projects or activities which are funded under the Prevention and Public Health Fund (PPHF) (Section 4002 of Pub. L. 111-148) and to report on use of PPHF funds provided through this award. Information from these reports will be made available to the public.

Grantees awarded a grant, cooperative agreement, or contract from such funds with a value of $25,000 or more shall produce reports on a semi-annual basis with a reporting cycle of January 1-June 30 and July 1-December 31; and email such reports to the CDC Web site (template and point of contact to be provided after award) no later than 20 calendar days after the end of each reporting period (i.e. July 20 and January 20, respectively). Grantee reports must reference the NoA number and title of the grant, and include a summary of the activities undertaken and identify any sub-awards (including the purpose of the award and the identity of each sub-recipient).

Responsibilities for Informing Sub-recipients: Grantees agree to separately identify each sub-recipient, document the execution date sub-award, date(s) of the disbursement of funds, the Federal award number, any special CFDA number assigned for PPHF fund purposes, and the amount of PPHF funds. When a grantee awards PPHF funds for an existing program, the information furnished to sub-recipients shall distinguish the sub-awards of incremental PPHF funds from regular sub-awards under the existing program.

DATES: Effective date is April 12, 2016.

ADDRESSES: Alvin Shultz, MSPH, Division of Preparedness and Emerging Infectious, National Center for Emerging and Zoonotic Infectious Diseases, Centers for Disease Control and Prevention, 1600 Clifton Road NE., Atlanta, GA 30333, Phone: 404-639-7028, E-Mail: Ashultz@cdc.gov.

FOR FURTHER INFORMATION CONTACT: Alvin Shultz, MSPH, Division of Preparedness and Emerging Infectious, National Center for Emerging and Zoonotic Infectious, Diseases Centers for Disease Control and Prevention, 1600 Clifton Road NE., Atlanta, GA 30333. Phone: 404-639-7028. E-Mail: Ashultz@cdc.gov.

Dated: March 25, 2016.
Terrance Perry,
Director, Office of Grants Services, Centers for Disease Control and Prevention.

[FR Doc. 2016-08318 Filed 4-11-16; 8:45 am]

BILLING CODE 4163-18-P